ENVIRONMENTAL PROTECTION AGENCY

[FRL-8481-9]

Gulf of Mexico Program Policy Review Board Meeting

AGENCY: Environmental Protection Agency (EPA).

ACTION: Notice of meeting.

SUMMARY: Under the Federal Advisory Committee Act (Pub. L. 92-463), EPA gives notice of a meeting of the Gulf of Mexico Program (GMP) Policy Review Board Meeting (PRB). For information on access or services for individuals with disabilities, please contact Gloria Car, U.S.EPA, at (228) 688-2421 or car.gloria@epa.gov. To request accommodation of a disability, please contact Gloria Car, preferably at least 10 days prior to the meeting, to give EPA as much time as possible to process your request.

DATES: The meeting will be held on Wednesday, November 14, 2007, from 9 a.m. to 3 p.m.

ADDRESSES: The meeting will be held at the Sheraton Tampa Riverwalk, 200 North Ashley Drive, Tampa, FL 33602, (813) 223-2222.

FOR FURTHER INFORMATION CONTACT: Gloria D. Car, Designated Federal Officer, Gulf of Mexico Program Office, Mail Code EPA/GMPO, Stennis Space Center, MS 39529-6000 at (228) 688-2421.

SUPPLEMENTARY INFORMATION: The proposed agenda includes the following topics: State Leadership Team Updates; Gulf Hypoxia Updates; Binational Harmful Algal Bloom Observing Systems Initiative Updates; Policy Innovations for a More Resilient Coastal Ecology & Economy; Status of the Gulf of Mexico Coastal Ecosystem Learning Center Network Development; 2007 Gulf Guardian Awards; Integrating the Gulf of Mexico Border: Challenges and Opportunities; Gulf of Mexico Coalition Report: 2008 Support Strategy; and 2007 Program Accomplishments Report.

The meeting is open to the public.

Dated: October 5, 2007.
Gloria D. Car,
Designated Federal Officer.

[FR Doc. E7-20155 Filed 10-11-07; 8:45 am]

BILLING CODE 6560-50-P